DEPARTMENT OF EDUCATION

Office of Safe and Drug-Free Schools; Overview Information; Partnerships in Character Education; Notice Inviting Applications for New Awards for Fiscal Year (FY) 2004

Catalog of Federal Domestic Assistance (CFDA) Number: 84.215V—State Educational Agencies; 84.215S—Local Educational Agencies

DATES: Applications Available: February 24, 2004.

Deadline for Transmittal of Applications: April 9, 2004.

Deadline for Intergovernmental Review: June 8, 2004.

Eligible Applicants: An eligible applicant under the 84.215V competition is:

(a) A State educational agency (SEA) in partnership with one or more local educational agencies (LEAs); or

(b) An SEA in partnership with one or more LEAs and nonprofit organizations or entities, including an institution of higher education (IHE).

An eligible applicant under the 84.215S competition is:

(a) An LEA or consortium of LEAs; or

(b) An LEA in partnership with one or more nonprofit organizations or entities, including an IHE.

Estimated Available Funds: $2,496,331. Contingent upon the availability of funds, we may make additional awards in FY 2005 from the rank-ordered list of nonfunded applications from this competition.

Estimated Range of Awards: For CFDA 84.215V—State educational agencies—$350,000 to $750,000 for each 12-month budget period. For CFDA 84.215S—Local educational agencies—$100,000 to $500,000 for each 12-month budget period.

Estimated Average Size of Awards: For CFDA 84.215V—State educational agencies—$550,000 for each 12-month budget period. For CFDA 84.215S—Local educational agencies—$300,000 for each 12 month budget period.

Minimum Award: Pursuant to Section 5431(a)(4) of the Elementary and Secondary Education Act of 1965, as amended (ESEA) (20 U.S.C. 7247), we will reject any request from an SEA that proposes a total budget for the entire project period that is less than $500,000. This restriction does not apply to applications from LEAs.

Estimated Number of Awards: 6-9.

Note: The Department is not bound by any estimates in this notice.

Project Period: Up to 48 months, of which no more than 12 months may be used for planning and program design.

Full Text of Announcement

I. Funding Opportunity Description

Purpose of Program: Under this program we provide Federal financial assistance to eligible entities to assist them in designing and implementing character education programs that take into consideration the view of parents, students, students with disabilities (including those with mental or physical disabilities) and other members of the community, including members of private and nonprofit organizations.

Priorities: This competition includes one absolute priority and one invitational priority that are explained in the following paragraphs. To be considered for funding, each applicant must address the absolute priority. These priorities are as follows.

In accordance with 34 CFR 75.105(b)(2)(iv), this priority is from Title V, Part D, Subpart 3, Section 5431 of the ESEA (20 U.S.C. 7247).

Absolute Priority: For this competition, this priority is an absolute priority. Under 34 CFR 75.105(c)(3) we consider only applications that meet this priority.

This priority is: the design and implementation of character education programs that:

(A) Are able to be integrated into classroom instruction and to be consistent with State academic content standards; and

(B) Are able to be carried out in conjunction with other educational reform efforts.

Within this absolute priority, we are particularly interested in applications that address the following invitational priority.

Invitational Priority:

Under 34 CFR 75.105(c)(1) we do not give an application that meets this invitational priority a competitive or absolute preference over other applications.

This priority is:

Invitational Priority—Experimental and Quasi-Experimental Evaluation Designs

The Secretary is particularly interested in receiving applications that propose evaluation plans that are based on rigorous scientifically based research methods to assess the effectiveness of a particular intervention. The Secretary intends that this priority will allow program participants and the Department to determine whether the project produces meaningful effects on student achievement or teacher performance.

Evaluation methods using an experimental design are best for determining project effectiveness. Thus, we encourage projects to use an experimental design under which participants—e.g., students, teachers, classrooms, or schools—are randomly assigned to participate in the project activities being evaluated or to a control group that does not participate in the project activities being evaluated.

If random assignment is not feasible, the project might use a quasi-experimental design with carefully matched comparison conditions. This alternative design attempts to approximate a randomly assigned control group by matching participants—e.g., students, teachers, classrooms, or schools—with non-participants having similar pre-program characteristics.

In cases where random assignment is not possible and an extended series of observations of the outcome of interest precedes and follows the introduction of a new program or practice, regression discontinuity designs might be employed.

For projects that are focused on special populations in which sufficient numbers of participants are not available to support random assignment or matched comparison group designs, single-subject designs such as multiple baseline or treatment reversal or interrupted time series that are capable of demonstrating causal relationships could be employed.

When sufficient numbers of participants are available to support evaluation strategies that use experimental designs with random assignment or quasi-experimental designs using a match comparison group or regression continuity designs, applicants are encouraged to use one of these designs. Evaluation strategies that involve sufficient numbers of participants to support group designs should be capable of demonstrating the causal effects of an intervention or program on those participants. The proposed evaluation plan should describe how the project evaluator will collect—before the project intervention commences and after it ends—valid and reliable data that measure the impact of participation in the program or in the comparison group.

A quality evaluation method should consider the following:

(1) The type of design to be used (that is, random assignment or matched comparison). If it will be matched comparison, the applicant should include in the plan a discussion of why random assignment is not feasible.

(2) The outcomes to be measured.

(3) A discussion of how the applicant plans to assign students, teachers, classrooms, or schools to the project and control group or match them for comparison with other students, teachers, classrooms, or schools.

(4) A proposed evaluator, preferably independent, with the necessary background and technical expertise to carry out the proposed evaluation. (An independent evaluator does not have any authority over the project and is not involved in its implementation.)

Program Authority: 20 U.S.C. 7247.

Applicable Regulations: The Education Department General Administrative Regulations (EDGAR) in 34 CFR parts 74, 75, 77, 79, 80, 81, 82, 84, 85, 86, 97, 98, 99, and 299.

Note: The regulations in 34 CFR part 86 apply to IHEs only.

II. Award Information

Type of Award: Discretionary grants.

Estimated Available Funds: $2,496,331. Contingent upon the availability of funds, we may make additional awards in FY 2005 from the rank-ordered list of nonfunded applications from this competition.

Estimated Range of Awards: For CFDA 84.215V—State educational agencies—$350,000 to $750,000 for each 12-month budget period. For CFDA 84.215S—Local educational agencies—$100,000 to $500,000 for each 12-month budget period.

Estimated Average Size of Awards: For CFDA 84.215V—State educational agencies—$550,000 for each 12-month budget period. For CFDA 84.215S—Local educational agencies—$300,000 for each 12-month budget period.

Minimum Award: Pursuant to Section 5431(a)(4) of the ESEA, we will reject any application from an SEA that proposes a total budget for the entire project period that is less than $500,000. There is no such restriction on applications from LEAs.

Estimated Number of Awards: 6-9.

Note: The Department is not bound by any estimates in this notice.

Project Period: Up to 48 months, of which no more than 12 months may be used for planning and program design.

III. Eligibility Information

1. Eligible Applicants: An eligible applicant under the 84.215V competition is:

(a) An SEA in partnership with one or more LEAs; or

(b) An SEA in partnership with one or more LEAs and nonprofit organizations or entities, including an IHE.

An eligible applicant under the 84.215S competition is:

(a) An LEA or consortium of LEAs; or

(b) An LEA in partnership with one or more nonprofit organizations or entities, including an IHE.

2. Cost Sharing or Matching: This competition does not involve cost sharing or matching.

3. Other: Each eligible entity receiving a grant must provide, to the extent feasible and appropriate, for the participation of students and teachers in private elementary and secondary schools in the funded programs and activities.

IV. Application and Submission Information

1. Address to Request Application Package: Sharon J. Burton, U.S. Department of Education, 555 New Jersey Avenue, NW., room 203, Washington, DC 20208-5570. Telephone: (202) 219-2044, Fax: (202) 208-1190 or by e-mail: Sharon.Burton@ed.gov.

If you use a telecommunications device for the deaf (TDD), you may call the Federal Information Relay Service (FIRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this competition. Page Limit: The application narrative (Part III of the application) is where you, the applicant, address the selection criteria that reviewers use to evaluate your application. It is strongly suggested that you limit Part III to the equivalent of no more than 25 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, or the letters of support. However, we request that you include all of the application narrative in Part III.

3. Submission Dates and Times:

Applications Available: February 24, 2004.

Deadline for Transmittal of Applications: April 9, 2004.

Note: We are requiring that applications for grants under this program be submitted electronically using the Electronic Grant Application System (e-Application) available through the Department's e-GRANTS system. For information about how to access the e-GRANTS system or to request a waiver of the electronic submission requirement, please refer to Section IV, Other Submission Requirements, in this notice.

The application package for this program specifies the hours of operation of the e-Application Web site. If you are requesting a waiver of the electronic submission requirement, the dates and times for the transmittal of applications by mail or by hand (including a courier service or commercial carrier) are also in the application package.

We do not consider an application that does not comply with the deadline requirements.

Deadline for Intergovernmental Review: June 8, 2004.

4. Intergovernmental Review: This competition is subject to Executive Order 12372 and the regulations in 34 CFR 79. Information about Intergovernmental Review of Federal Competitions under Executive Order 12372 is in the application package for this competition.

5. Funding Restrictions: The regulations on determining allowable costs are in 34 CFR 80. We reference regulations outlining additional funding restrictions in the Applicable Regulations section of this notice.

An SEA receiving a grant may use no more than 3 percent of the grant funds, each year, for administrative purposes. The remainder of these funds may be used for (1) collaborative initiatives with and between LEAs and schools; (2) the preparation or purchase of materials, and teacher training; (3) providing assistance to LEAs, schools, or IHEs; and (4) technical assistance and evaluation.

6. Other Submission Requirements: Instructions and requirements for the transmittal of applications by mail or by hand (including a courier service or commercial carrier) are in the application package for this competition.

Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under Partnerships in Character Education—CFDA Number 84.215V—State educational agencies and CFDA Number 84.215S—Local education agencies be submitted electronically using the Electronic Grant Application System (e-Application) available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Sharon J. Burton, U.S. Department of Education, 555 New Jersey Avenue, NW., room 203, Washington, DC 20208-5570. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications: We are continuing to expand our pilot project for electronic submission of applications to include additional formula grant programs and additional discretionary grant competitions. Partnerships in Character Education—CFDA Number 84.215V—State educational agencies and CFDA Number 84.215S—Local educational agencies are two of the competitions included in the pilot project. If you are an applicant under Partnerships in Character Education you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for Partnerships in Character Education at: http://e-grants.ed.gov

V. Application Review Information

1. Selection Criteria: The selection criteria for this competition are in the application package.

2. Review and Selection Process: Additional factors we consider in selecting an application for an award are in 20 U.S.C. 7247. In making selections for funding, we will ensure, to the extent practicable, that the projects are equitably distributed among the geographic regions of the United States, and among urban, suburban, and rural areas.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. Additional reporting requirements are set out in Section 5431(h) of the ESEA.

4. Performance Measure: We have established one performance indicator for the Partnerships in Character Education Program. The indicator is: Partnerships in Character Education Program grantees will demonstrate predicted student effects through valid, rigorous evaluations. Consequently, applicants for a grant under this program are advised to give careful consideration to this measure in conceptualizing the design, implementation, and evaluation of their proposed project. If funded, applicants will be asked to collect and report data in their annual performance reports on evaluation outcomes. We will track this indicator through the use of one measure.

Measure: The proportion of projects funded under this competition demonstrating predicted student effects through valid, rigorous evaluations will increase.

VII. Agency Contact

FOR FURTHER INFORMATION CONTACT: Sharon J. Burton, U.S. Department of Education, 555 New Jersey Avenue, NW., room 203, Washington, DC 20208-5570. Telephone: (202) 219-2044, FAX: (202) 208-1190 or by e-mail: Sharon.Burton@ed.gov

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 19, 2004.
Deborah A. Price,
Deputy Under Secretary for Safe and Drug-Free Schools.

[FR Doc. 04-3989 Filed 2-23-04; 8:45 am]

BILLING CODE 4000-01-P